DEPARTMENT OF COMMERCE

International Trade Administration

[A-588-862]

Notice of Postponement of Final Antidumping Duty Determination: High and Ultra-High Voltage Ceramic Station Post Insulators from Japan

AGENCY: Import Administration, International Trade Administration, Department of Commerce.

ACTION: Postponement of final antidumping duty determination.

EFFECTIVE DATE: July 3, 2003.

FOR FURTHER INFORMATION CONTACT: Timothy Finn or Michele Mire, AD/CVD Enforcement, Office 4, Group II, Import Administration, International Trade Administration, U.S. Department of Commerce, 14th Street and Constitution Avenue NW., Washington, DC 20230; telephone (202) 482-0065 or (202) 482-4711, respectively.

SUMMARY: The Department of Commerce (the Department) is postponing the final determination in the antidumping duty investigation of high and ultra-high voltage ceramic station post insulators (HVSPs) from Japan. The deadline for issuing the final determination in this investigation is now October 29, 2003.

SUPPLEMENTARY INFORMATION:

Background

On June 16, 2003, the Department published its preliminary determination in the investigation of HVSPs from Japan (68 FR 35627). The notice stated that the Department would issue its final determination no later than 75 days after the date of publication of the preliminary determination.

Postponement of Final Determination

On June 20, 2003, the Department received a request for postponement of the final determination from NGK Insulators, Ltd., a manufacturer/exporter who accounts for a significant portion of the exports of subject merchandise. There are no compelling reasons for the Department to deny this request. Therefore, pursuant to section 19 CFR 351.210(b)(2)(ii), the Department is postponing the deadline for issuing the final determination until October 29, 2003.

This notice of postponement is in accordance with section 735(a)(2)(A) of the Tariff Act of 1930, as amended, and 19 CFR 351.210(b)(2)(ii).

Dated: June 23, 2003.
Joseph A. Spetrini,
Acting Assistant Secretary for Import Administration.

[FR Doc. 03-16919 Filed 7-2-03; 8:45 am]

BILLING CODE 3510-DS-P